DEPARTMENT OF TRANSPORTATION

Federal Aviation Administration

Twenty-Fourth Meeting: Subcommittee 217 (SC 217)

AGENCY: Federal Aviation Administration (FAA), U.S. Department of Transportation (DOT).

ACTION: Twenty-Fourth Meeting Notice of Subcommittee 217.

SUMMARY: The FAA is issuing this notice to advise the public of the twenty-fourth meeting of the Subcommittee 217.

DATES: The meeting will be held June 15th-19th from 9:00 a.m.-5:00 p.m.

ADDRESSES: The meeting will be held at RTCA Headquarters, 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Subcommittee 217. The agenda will include the following:

Monday, June 15, 2015

1. Open Plenary Session

a. Co-Chairmen's remarks and introductions

b. Approve minutes from 23nd meeting

c. Review and approve meeting agenda for 24rd meeting

d. ED-76A—DO-200B progress status

e. Discussion on the outcome of DO-201A/ED-77 Scoping Exercise

f. Schedule and working arrangements for this week

2. FRAC and Open Consultation Resolution

a. DO-272/ED-99, DO-276/ED-98, DO-291/ED-119—FRAC and Open Consultation Resolution

b. Overview of comments received—by FRAC Preparation Team

c. Resolution of individual comments by priority

d. Summary of FRAC resolution

e. Action Plan to get the final document draft copies to RTCA and EUROCAEWelcome/Introductions/Administrative Remarks

Tuesday, June 16, 2015

1. Open Plenary Session

a. Co-Chairmen's remarks and introductions

b. Approve minutes from 23nd meeting

c. Review and approve meeting agenda for 24rd meeting

d. ED-76A—DO-200B progress status

e. Discussion on the outcome of DO-201A/ED-77 Scoping Exercise

f. Schedule and working arrangements for this week

2. FRAC and Open Consultation Resolution

a. DO-272/ED-99, DO-276/ED-98, DO-291/ED-119—FRAC and Open Consultation Resolution

b. Overview of comments received—by FRAC Preparation Team

c. Resolution of individual comments by priority

d. Summary of FRAC resolution

e. Action Plan to get the final document draft copies to RTCA and EUROCAEWelcome/Introductions/Administrative Remarks

Wednesday, June 17, 2015

1. Open Plenary Session

a. Co-Chairmen's remarks and introductions

b. Approve minutes from 23nd meeting

c. Review and approve meeting agenda for 24rd meeting

d. ED-76A—DO-200B progress status

e. Discussion on the outcome of DO-201A/ED-77 Scoping Exercise

f. Schedule and working arrangements for this week

2. FRAC and Open Consultation Resolution

a. DO-272/ED-99, DO-276/ED-98, DO-291/ED-119—FRAC and Open Consultation Resolution

b. Overview of comments received—by FRAC Preparation Team

c. Resolution of individual comments by priority

d. Summary of FRAC resolution

e. Action Plan to get the final document draft copies to RTCA and EUROCAEWelcome/Introductions/Administrative Remarks

Thursday, June 18, 2015

1. Open Plenary Session

a. Co-Chairmen's remarks and introductions

b. Approve minutes from 23nd meeting

c. Review and approve meeting agenda for 24rd meeting

d. ED-76A—DO-200B progress status

e. Discussion on the outcome of DO-201A/ED-77 Scoping Exercise

f. Schedule and working arrangements for this week

2. FRAC and Open Consultation Resolution

a. DO-272/ED-99, DO-276/ED-98, DO-291/ED-119—FRAC and Open Consultation Resolution

b. Overview of comments received—by FRAC Preparation Team

c. Resolution of individual comments by priority

d. Summary of FRAC resolution

e. Action Plan to get the final document draft copies to RTCA and EUROCAEWelcome/Introductions/Administrative Remarks

Friday, June 19, 2015

1. Open Plenary Session

a. Co-Chairmen's remarks and introductions

b. Approve minutes from 23nd meeting

c. Review and approve meeting agenda for 24rd meeting

d. ED-76A—DO-200B progress status

e. Discussion on the outcome of DO-201A/ED-77 Scoping Exercise

f. Schedule and working arrangements for this week

2. FRAC and Open Consultation Resolution

a. DO-272/ED-99, DO-276/ED-98, DO-291/ED-119—FRAC and Open Consultation Resolution

b. Overview of comments received—by FRAC Preparation Team

c. Resolution of individual comments by priority

d. Summary of FRAC resolution

e. Action Plan to get the final document draft copies to RTCA and EUROCAEWelcome/Introductions/Administrative Remarks

3. Closing Plenary Session

a. Approval of Documents for the PMC/TAC Meeting in September 2015

b. Next meetings, TORs, dates, locations

c. Any other business and Adjourn

Attendance is open to the interested public but limited to space availability. With the approval of the chairman, members of the public may present oral statements at the meeting. Persons wishing to present statements or obtain information should contact the person listed in the FOR FURTHER INFORMATION CONTACT section. Members of the public may present a written statement to the committee at any time. Issued in Washington, DC, on May 21, 2015.

Latasha Robinson,
Management & Program Analyst, NextGen, Program Oversight and Administration, Federal Aviation Administration.

[FR Doc. 2015-12972 Filed 5-28-15; 8:45 am]

BILLING CODE 4910-13-P